DEPARTMENT OF TRANSPORTATION

Federal Motor Carrier Safety Administration

[Docket No. FMCSA-2012-0086]

Identification of Interstate Motor Vehicles: City of Chicago, IL Registration Emblem Requirement; Petition for Determination

AGENCY: Federal Motor Carrier Safety Administration (FMCSA), Department of Transportation (DOT).

ACTION: Notice of Petition for Determination; Request for Comments.

SUMMARY: FMCSA invites all interested persons to comment on a petition submitted by Allerton Charter Coach, Inc. (Allerton) requesting a determination that the Commercial Motor Vehicle (CMV) identification requirement imposed by the Chicago Ground Transportation Tax is preempted by Federal law. Federal law prohibits States and their political subdivisions from requiring motor carriers to display in or on CMVs any form of identification other than forms required by the Secretary of Transportation, with certain exceptions. FMCSA seeks comment on whether the credential display requirement described below is preempted or whether it qualifies for an exception.

DATES: Comments are due on or before May 22, 2012.

ADDRESSES: You may submit comments identified by the Federal Docket Management System Number in the heading of this document by any of the following methods. Do not submit the same comments by more than one method. However, to allow effective public participation before the comment period deadline, the Agency encourages use of the Web site that is listed first. It will provide the most efficient and timely method of receiving and processing your comments.

• Federal eRulemaking Portal: Go to http://www.regulations.gov. Follow the online instructions for submitting comments.

• Fax: 1-202-493-2251.

• Mail: Docket Management Facility; U.S. Department of Transportation, Room W12-140, 1200 New Jersey Avenue SE., Washington, DC 20590-0001.

• Hand Delivery: Ground floor, Room W12-140, 1200 New Jersey Avenue SE., Washington, DC, between 9 a.m. and 5 p.m., e.t., Monday through Friday, except Federal holidays.

Instructions: All submissions must include the Agency name and docket number for this action. Note that all comments received will be posted without change to http://www.regulations.gov, including any personal information provided. Refer to the Privacy Act heading on http://www.regulations.gov for further information.

Public Participation: The regulations.gov system is generally available 24 hours each day, 365 days each year. You can find electronic submission and retrieval help and guidelines under the “Help” section of the Web site. For notification that FMCSA received the comments, please include a self-addressed, stamped envelope or postcard, or print the acknowledgement page that appears after submitting comments on line. Copies or abstracts of all documents referenced in this Notice are in this docket. For access to the docket to read background documents or comments received, go to http://www.regulations.gov at any time or to Room W12-140, 1200 New Jersey Avenue SE., Washington, DC, between 9 a.m. and 5 p.m., e.t., Monday through Friday, except Federal holidays. All comments received before the close of business on the comment closing date indicated above will be considered and will be available for examination in the docket at the above address. Comments received after the closing date will be considered to the extent practicable. FMCSA may, however, issue a final determination at any time after the close of the comment period. In addition to late comments, FMCSA will also continue to file in the public docket relevant information that becomes available after the comment closing date. Interested persons should monitor the public docket for new material.

FOR FURTHER INFORMATION CONTACT: Genevieve D. Sapir, Office of the Chief Counsel, Federal Motor Carrier Safety Administration, 1200 New Jersey Avenue SE., Washington, DC 20590, (202) 366-7056; email Genevieve.Sapir@dot.gov. If you have questions on viewing the docket, call Renee V. Wright, Program Manager, Docket Operations, telephone 202-366-9826.

SUPPLEMENTARY INFORMATION:

Background

On January 20, Allerton submitted a petition requesting that FMCSA determine that the Chicago Ground Transportation Tax's (the Tax) registration emblem display requirement, which applies to interstate passenger motor carriers under FMCSA's jurisdiction, is preempted by 49 U.S.C. 14506. On February 9, the City of Chicago responded to the petition, stating that it would file public comments in response to this Notice.

The Tax requires providers of passenger ground transportation within the City of Chicago to register their vehicles and pay a graduated fee that varies according to the seating capacity of each vehicle registered. Chicago Mun. Code ch. 3-46. The Tax applies to all for-hire vehicles used to pick up, drop off or both pick up and drop off passengers within the city. Chicago Mun. Code § 3-46-020(H). These vehicles include, but are not limited to: Water taxis, horse-drawn carriages and taxicabs, and all automobiles, limousines, buses and other vehicles used to provide passenger transportation for a charge. Chicago Mun. Code § 3-46-020(D). The Tax applies regardless of whether the vehicle in question is registered or titled with the State of Illinois. Id. To prevent multiple taxation, most providers of for-hire passenger transportation who are required to pay a similar tax in another municipality may claim a credit by the amount paid to the other municipality. Chicago Mun. Code § 3-46-030(C)(1).

Vehicles subject to the Tax must display an emblem on the windshield as evidence of registration and payment. Chicago Mun. Code § 3-46-073(A), (B). Vehicles that do not display the emblem are prohibited from operating within the city and are subject to seizure and impoundment at the vehicle owner's expense, as well as an administrative penalty of $500. Id.; Chicago Mun. Code § 3-46-076(A).

Federal law, codified at 49 U.S.C. 14506(a), prohibits States from requiring interstate motor carriers to display in or on CMVs any form of identification other than forms required by the Secretary of Transportation (Secretary). Section 14506(b), however, establishes the following exceptions to this prohibition [all statutory references are to title 49, United States Code]:

(b) Exception.—Notwithstanding subsection (a), a State may continue to require display of credentials that are required—

(1) Under the International Registration Plan under section 31704;

(2) Under the International Fuel Tax Agreement under section 31705 or under an applicable State law if, on October 1, 2006, the State has a form of highway use taxation not subject to collection through the International Fuel Tax Agreement;

(3) Under a State law regarding motor vehicle license plates or other displays that the Secretary determines are appropriate;

(4) In connection with Federal requirements for hazardous materials transportation under section 5103; or

(5) In connection with the Federal vehicle inspection standards under section 31136.

FMCSA interprets § 14506(b)(3) to establish two categories of excepted requirements. The first includes identification requirements related to motor vehicle license plates. The second includes any other identification displays that the Secretary of Transportation approves. 49 U.S.C. 14506(b)(3). In addition, in accordance with a previous decision, FMCSA interprets all of the exceptions at § 14506(b) to apply to political subdivisions of States, including municipalities. See Identification of Interstate Motor Vehicles: New York City, Cook County, and New Jersey Identification Requirements; Petition for Determination (75 FR 64779, Oct. 20, 2010). All authority granted to the Secretary under § 14506 has been delegated to the FMCSA Administrator by 49 CFR 1.73(a)(7).

Request for comments

FMCSA seeks comment on whether the City of Chicago's registration emblem display requirement is preempted by Federal law. FMCSA welcomes comments on whether any exception set forth in 49 U.S.C. 14506(b) applies to the Tax, however the Agency believes that § 14506(b)(3) is the only exception that could apply to the Tax. As such, the Agency specifically seeks comment on whether there is any reason FMCSA should consider approving the requirement under § 14506(b)(3).

The Agency requests that submissions be limited to these issues and encourages commenters to submit data or legal authorities supporting their positions. FMCSA has no authority to review the imposition, amounts, or collection of any taxes for which the credentials are issued. Allerton's petition and the City of Chicago's response are available for inspection in the docket established for this Notice.

Issued on: March 20, 2012.
William A. Bronrott,
Deputy Administrator.

[FR Doc. 2012-7124 Filed 3-22-12; 8:45 am]

BILLING CODE 4910-EX-P